DEPARTMENT OF COMMERCE

Foreign-Trade Zones Board

[B-48-2017]

Foreign-Trade Zone (FTZ) 230—Piedmont Triad Area, North Carolina; Authorization of Production Activity Klaussner Home Furnishings (Upholstered Furniture) Asheboro and Candor, North Carolina

On July 24, 2017, Klaussner Home Furnishings submitted a notification of proposed production activity to the FTZ Board for its facility within Subzone 230D, in Asheboro and Candor, North Carolina.

The notification was processed in accordance with the regulations of the FTZ Board (15 CFR part 400), including notice in the Federal Register inviting public comment (82 FR 37191-37192, August 9, 2017). On November 21, 2017, the applicant was notified of the FTZ Board's decision that no further review of the activity is warranted at this time. The production activity described in the notification was authorized, subject to the FTZ Act and the FTZ Board's regulations, including Section 400.14, and further subject to a restriction requiring that lithium ion batteries be admitted to the subzone in privileged foreign status (19 CFR 146.41) or domestic status (19 CFR 146.43).

Dated: November 21, 2017.
Andrew McGilvray,
Executive Secretary.

[FR Doc. 2017-25657 Filed 11-27-17; 8:45 am]

BILLING CODE 3510-DS-P